DEPARTMENT OF HOMELAND SECURITY

Federal Emergency Management Agency

44 CFR Part 67

Final Flood Elevation Determinations

AGENCY: Federal Emergency Management Agency (FEMA), Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

DATES: Effective Date: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the BFEs and modified BFEs for each community listed. These modified elevations have been published in newspapers of local circulation and ninety (90) days have elapsed since that publication. The Mitigation Division Director has resolved any appeals resulting from this notification.

This final rule is issued in accordance with section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | ◆ Elevation in feet (NAVD) modified | Communities affected
Bayou Two Prairie:
Approximately 1,330 feet downstream of State Highway 13 | 215 | City of Carlisle.
Approximately 2,750 feet downstream of U.S. Highway 70 | 217
Candlewood Drain:
Approximately 880 feet downstream of Kerr Station Road | 271 | City of Cabot, Lonoke County, (Unincorporated Areas).
Approximately 4,120 feet upstream of Kerr Station Road | 295
Fourmile Creek:
Approximately 50 feet downstream of State Highway 321 | 243 | City of Austin.
Approximately 3,250 feet upstream of State Highway 321 | 246
Fourmile Creek:
Approximately 1,250 feet downstream of U.S. Highway 67/167 | 251 | City of Cabot.
Approximately 50 feet downstream of U.S. Highway 67/167 | 252
Hudson Branch:
Approximately 1,000 feet upstream of the confluence with Hudson Branch Creek | 257 | City of Cabot.
Approximately 800 feet upstream of North Polk Street | 270
Hudson Branch Creek:
Approximately 950 feet upstream of Union Pacific Railroad | 241 | Creek City of Austin, Lonoke County, (Unincorporated Areas).
Approximately 3,050 feet upstream of State Highway 321/East Main Street | 248
Magness Creek:
At the confluence with Fourmile Creek | 234 | City of Cabot, Lonoke County, (Unincorporated Areas).
Approximately 1,950 feet upstream of Bailey Road | 282
White Oak Branch:
Approximately 320 feet downstream of State Highway 321/Bill Foster Memorial Highway | 262 | City of Cabot, Lonoke County, (Unincorporated Areas).
Approximately 4,860 feet upstream of Grayhawk Road | 287
Addresses
City of Austin, Lonoke County, Arkansas.
Maps are available for inspection at 202 Hendricks, Austin, Arkansas.
City of Cabot, Lonoke County, Arkansas.
Maps are available for inspection at 101 North 2nd Street, Cabot, Arkansas.
City of Carlisle, Lonoke County, Arkansas.
Maps are available for inspection at 122 West Main Street, Carlisle, Arkansas.
Lonoke County (Unincorporated Areas), Arkansas.
Maps are available for inspection at Lonoke County Courthouse, 200 North Center Street, Lonoke, Arkansas.
◆ North American Vertical Datum of 1988.

(Catalog of Federal Domestic Assistance No. 83.100, “Flood Insurance”)
Dated: February 2, 2006.
David I. Maurstad,
Acting Director, Mitigation Division, Federal Emergency Management Agency, Department of Homeland Security.

[FR Doc. 06-1345 Filed 2-13-06; 8:45 am]

BILLING CODE 9110-12-P